DEPARTMENT OF JUSTICE

Immigration and Naturalization Service

[INS No. 2114-01; AG Order No. 2555-2002]

RIN 1115-AE26

Extension of the Designation of Angola Under Temporary Protected Status Program

AGENCY: Immigration and Naturalization Service, Justice.

ACTION: Notice.

SUMMARY: The designation of Angola under the Temporary Protected Status (TPS) Program will expire on March 29, 2002. This notice extends the Attorney General's designation of Angola for 12 months until March 29, 2003, and sets forth procedures necessary for nationals of Angola (or aliens having no nationality who last habitually resided in Angola) with TPS to re-register for the additional 12-month period. Registration is limited to persons who both registered under the initial designation (which ended on March 29, 2001) and also timely re-registered under the extension of designation, or registered under the redesignation (which ends March 29, 2002). Nationals of Angola (or aliens having no nationality who last habitually resided in Angola) who previously have not applied for TPS may be eligible to apply under the late initial registration provisions.

EFFECTIVE DATES: The extension of Angola's TPS designation is effective March 29, 2002, and will remain in effect until March 29, 2003. The 60-day re-registration period begins February 1, 2002 and will remain in effect until April 2, 2002.

FOR FURTHER INFORMATION CONTACT: Emily Crowder, Program Analyst, Immigration and Naturalization Service, 425 I Street, NW, Room 3040, Washington, DC 20536, telephone (202) 514-4754.

SUPPLEMENTARY INFORMATION:

What Authority Does the Attorney General Have To Extend the Designation of Angola Under the TPS Program?

Section 244(b)(3)(A) of the Immigration and Nationally Act (the Act) states that at least 60 days before the end of a designation, or any extension thereof, the Attorney General must review conditions in the foreign state for which he designation is in effect. 8 U.S.C. 1254a(b)(3)(A). If the Attorney General does not determine that the foreign state no longer continues to meet the conditions for designation, the period of designation is extended automatically for 6 months pursuant to section 244(b)(3)(C) of the Act, although the Attorney General may exercise his discretion to extend the designation for a period of 12 or 18 months. 8 U.S.C. 1254a(b)(3)(C). With respect to Angola, such an extension makes TPS available only to persons who have been continuously physically present since April 5, 2001, and have continuously resided in the United States since the effective date of the redesignation, April 5, 2001.

Why Did the Attorney General Decide To Extend the TPS Designation for Angola?

On March 29, 2000, the Attorney General designated Angola under the TPS program (65 FR 16634). Since that time, the Departments of Justice and State have continuously reviewed conditions in Angola, extending and re-designating Angola under the TPS program on April 5, 2001 (66 FR 18111). The current review has resulted in a consensus that a further 12-month extension is warranted. A recent Department of State report found that the conditions under which Angola was designated for TPS have not ceased to exist and, therefore, “[t]he situation in Angola remains unsafe for return.” Recommendation for Extension Of TPS, INS/DOS Consultation for Angola (November 1, 2001). The Department of Justice reports that “[g]uerilla activities of UNITA have spread in recent months and both sides to the conflict have subjected civilians to a wide range of human rights abuses.” The INS Resource Information Center, Angola: Information on Civil Conflict and the Socioeconomic and Humanitarian Situation (December 1, 2001). Such ongoing, armed conflict continues to threaten seriously the personal safety of Angolans, and the Department of State estimates that the fighting between UNTIA rebels and the Angolan Government will continue well into next year. Recommendation for Extension of TPS, INS/DOS Consultation for Angola. “The warring parties have repeatedly subjected the civilian population to forced displacements and acts of violence,” including murder and rape. Id. Approximately 3 million Angolans remain internally displaced, 380,000 of whom have been displaced since January 2001. Id. Additionally, UNITA rebels have begun “using terrorist tactics to attack civilians even in government-controlled areas.” Id. The armed conflict also continues to effect health conditions in Angola. The Department of State's report cities that “[i]n overcrowded cities and makeshift IDP camps, malnutrition and vitamin deficiency-induced illnesses flourish, while poor water and sanitation conditions create an environment of increased risk of disease and epidemics such as polio and meningitis.” Id. Also, the Department of State estimates that there are approximately 8 million landmines planted in Angolan soil, making it such that “[r]eturnees would be at risk of becoming casualties.” Id.

Based on this review, the Attorney General finds that the conditions that prompted designation of Angola under the TPS program continue to be met. 8 U.S.C. 1254a(b)(3)(A). There is an ongoing armed conflict within Angola and, due to such conflict, requiring the return of aliens who are nationals of Angola (or aliens having no nationality who last habitually resided in Angola) would pose a serious threat to their personal safety. 8 U.S.C. 1254a(b)(1)(A). Furthermore, there exist extraordinary and temporary conditions in Angola that prevent nationals of Angola (and aliens having no nationality who last habitually resided in Angola) from returning home in safety. 8 U.S.C. 1254a(b)(1)(C). Finally, permitting nationals of Angola to remain temporarily in the United States is not contrary to the national interest of the United States. Id. On the basis of these findings, the Attorney General concludes that the TPS designation for Angola should be extended for an additional 12-month period. 8 U.S.C. 1254a(b)(3)(C).

If I Currently Have TPS Through the Angola TPS Program, Do I Still Re-Register for TPS?

Yes. If you have already been granted TPS through the Angola TPS program, your status will expire on March 29, 2002. Accordingly, you must re-register for TPS in order to maintain your status through March 29, 2003. See the re-registration instructions below.

If I Am Currently Registered for TPS, How Do I Re-Register for an Extension?

All persons previously granted TPS under the Angola program who wish to maintain such status must apply for an extension by filing (1) a Form I-821, Application for Temporary Protected Status, without the $50 filing fee; (2) a Form I-765, Application for Employment Authorization; and (3) two identification photographs (1½ inches x 1½ inches). See the chart below to determine whether you must submit the one hundred and twenty dollar ($120) filing fee with Form I-765. Applicants for an extension of TPS benefits do not need to be re-fingerprinted and thus need not pay the $50 fingerprint fee, Children beneficiaries of TPS who have reached the age of fourteen (14) but were not previously fingerprinted must pay the fifty dollar ($50) fingerprint fee with the application for extension.

Submit the completed forms and applicable fee, if any, to the Immigration and Naturalization Service (“Service”) district office having jurisdiction over your place of residence during the 60-day re-registration period that beings February 1, 2002 and April 2, 2002 (inclusive of such end date).

If | Then
You are applying for employment authorization until March 29, 2003 | You must complete and file the Form I-765, Application for Employment Authorization, with the $120 fee.
You already have employment authorization or do not require employment authorization | You must complete and file Form I-765 with no fee.
You are applying for employment authorization and are requesting a fee waiver | You must complete and file: (1) Form I-765 and (2) a fee waiver request and affidavit (and any other information) in accordance with 8 CFR 244.20.

Where Must I Ffile?

Submit the completed forms, applicable fees, and identification photographs to the Service district office having jurisdiction over your place of residence.

When Must I File?

You must file your application and accompanying materials within the 60-day reregistration period that begins February 1, 2002 and ends April 2, 2002 (inclusive of such end date).

How Does an Application for TPS Affect My Application for Asylum or Other Immigration Benefits?

An application for TPS does not affect an application for asylum or any other immigration benefit. A national of Angola (or alien having no nationality who last habitually resided in Angola) who is otherwise eligible for TPS and has applied for, or plans to apply for, asylum, but who has not yet been granted asylum or withholding of removal, may also apply for TPS. Denial of an application for asylum or any other immigration benefit does not affect an applicant's ability to apply for TPS, although the grounds for denying one form of relief may also be grounds for denying TPS. For example, a person who has been convicted of a particularly serious crime is not eligible for asylum or TPS. 8 U.S.C. 1158(b)(2); 8 U.S.C. 1254a(c)(2)(B)(i).

Does This Extension Allow Nationals of Angola (or Aliens Having No Nationality Who Last Habitually Resided in Angola) Who Entered the United States After April 5, 2001, To File for TPS?

No. This is a notice of an extension of the TPS designation for Angola, not a notice of redesignation of Angola under the TPS program. An extension of TPS does not change the required dates of continuous residence and continuous physical presence in the United States, in this case, April 5, 2001. This extension does not expand TPS availability to include nationals of Angola (or aliens having no nationality who last habitually resided in Angola) who have not been continuously physically present in, and have not continuously resided in, the United States since the date of the most recent redesignation, April 5, 2001.

Is Late Initial Registration Possible?

Yes. Some persons may be eligible for late initial registration under 8 CFR 244.2. To apply for late initial registration an applicant must:

(1) Be a national of Angola (or alien who has no nationality and who last habitually resided in Angola);

(2) Have been continuously physically present in the United States since April 5, 2001;

(3) Have continuously resided in the United States since April 5, 2001; and

(4) Be both admissible as an immigrant, except as provided under section 244(c)(2)(A) of the Act, and not ineligible under section 244(c)(2)(B) of the Act.

Additionally, the applicant must be able to demonstrate that during the registration period from April 5, 2001, through March 29, 2002, he or she:

(1) Was a nonimmigrant or had been granted voluntary departure status or any relief from removal;

(2) Had an application for change of status, adjustment of status, asylum, voluntary departure, or any relief from removal or change of status pending or subject to further review or appeal;

(3) Was a parolee or had a pending request for reparole; or

(4) Was the spouse or child of an alien currently eligible to be a TPS registrant. 8 CFR 244.2(f)(2).

An applicant for late initial registration must file an application for late registration within a 60-day period immediately following the expiration or termination of the conditions described above. 8 CFR 244.2(g).

Notice of Extension of Designation of Angola Under the TPS Program

By the authority vested in me as Attorney General under sections 244(b)(1), (b)(3)(A), and (b)(3)(C) of the Act, I have consulted with the appropriate government agencies and determine that the conditions that prompted designation of Angola for TPS continue to be met. 8 U.S.C. 1254a(b)(3)(A). Accordingly, I order as follows:

(1) The designation of Angola under section 244(b) of the Act is extended for an additional 12-month period from March 29, 2002, to March 29, 2003. 8 U.S.C. 1254a(b)(3)(C).

(2) There are approximately 1,000 nationals of Angola (or aliens having no nationality who last habitually resided in Angola) who have been granted TPS and who are eligible for re-registration.

(3) To maintain TPS, a national of Angola (or an alien having no nationality who last habitually resided in Angola) who received TPS during the initial designation or redesignation periods must re-register for TPS during the 60-day re-registration period from February 1, 2002 until April 2, 2002.

(4) To re-register, the applicant must file the following: (1) Form I-821, Application for Temporary Protected Status; (2) Form I-765, Application for Employment Authorization; and (3) two identification photographs (1½ inches by 1½ inches). There is no fee for a Form I-821 filed as part of the re-registration application. If the applicant requests employment authorization, he or she must submit one hundred and twenty dollars ($120) or a properly documented fee waiver request, pursuant to 8 CFR 244.20, with the Form I-765. An applicant who does not request employment authorization must nonetheless file Form I-765 along with Form I-821, but is not required to submit the fee. The fifty dollar ($50) fingerprint fee is required only for children beneficiaries of TPS who have reached the age of 14 but were not previously fingerprinted. Failure to re-register without good cause will result in the withdrawal of TPS. 8 CFR 244.17(c). Some persons who had not previously applied for TPS may be eligible for late initial registration under 8 CFR 244.2.

(5) At least 60 days before this extension terminates on March 29, 2003, the Attorney General will review the designation of Angola under the TPS program and determine whether the conditions for designation continue to be met. 8 U.S.C. 1254a(b)(3)(A). Notice of that determination, including the basis for the determination, will be published in the Federal Register. 8 U.S.C. 1254a(b)(3)(A).

(6) Information concerning the extension of designation of Angola under the TPS program will be available at local Service offices upon publication of this notice and on the Service Web site at http://www.ins.usdoj.gov.

Dated: January 28, 2002.
John Ashcroft,
Attorney General.

[FR Doc. 02-2528 Filed 1-31-02; 8:45 am]

BILLING CODE 4410-10-M